FEDERAL ELECTION COMMISSION

Sunshine Act Notices

* * * * *

Previously Announced Date and Time: Thursday, February 10, 2005, 10 a.m. meeting open to the public. This meeting was canceled.

* * * * *

Date and Time: Monday, February 14, 2005, at 10 a.m.

Place: 999 E Street, NW., Washington, DC (Ninth Floor).

Status: This Meeting Will Be Open To the Public.

Items To Be Discussed:

Correction and Approval of Minutes.

Advisory Opinion 2004-43: Missouri Broadcasters Association, by counsel Gregg P. Skall.

Notice of Proposed Rulemaking on Candidate Solicitation at State, District, and Local Party Fundraising Events.

* * * * *

Date and Time: Tuesday, February 15, 2005 at 10 a.m.

Place: 999 E Street, NW., Washington, DC.

Status: This Meeting Will Be Closed To the Public.

Items To Be Discussed:

Compliance matters pursuant to 2 U.S.C. 437g.

Audits conducted pursuant to 2 U.S.C. 437g, § 438(b), and Title 26, U.S.C.

Matters concerning participation in civil actions or proceedings or arbitration.

Internal personnel rules and procedures or matters affecting a particular employee.

FOR FURTHER INFORMATION CONTACT: Mr. Robert Biersack, Press Officer, Telephone: (202) 694-1220.

Mary W. Dove,
Secretary of the Commission.

[FR Doc. 05-2458 Filed 2-3-05; 2:58 pm]

BILLING CODE 6715-01-M